DEPARTMENT OF HOUSING AND URBAN DEVELOPMENT

[SGA-03-15]

Notice of Funding Availability (NOFA), Solicitation for Grant Applications (SGA) for Ending Chronic Homelessness Through Employment and Housing Revision To Extend Application Deadline Date for Eligible Applicants

AGENCY: Office of the Assistant Secretary for Community Planning and Development, HUD.

ACTION: Extension of Deadline Date.

SUMMARY: On July 18, 2003, HUD and the Department of Labor (DOL) jointly announced the availability of approximately $12.5 million to help address chronic homelessness. This notice advises interested parties that, as a result of the emergency situation caused by the power outages that affected much of the Mid-Atlantic and the Mid-West, HUD and DOL have decided to extend the application submission date for the Notice of Funding Availability/Solicitation for Grant Applications (SGA) to Monday, August 25, 2003.

FOR FURTHER INFORMATION CONTACT: John Garrity, Director, Office of Special Needs Assistance Programs, Office of Community Planning and Development, Room 7262, Department of Housing and Urban Development, 451 Seventh Street, SW., Washington, DC 20410-0500, (202) 708-4300 (this is not a toll-free number). Persons with hearing or speech impairments access this number through TTY by calling the toll-free Federal Information Relay Service at (800) 877-8339.

SUPPLEMENTARY INFORMATION: On July 18, 2003 (68 FR 42818), HUD and DOL jointly published a Solicitation for Grant Applications (SGA)/ Notice of Funding Availability that announced approximately $12.5 million to help address chronic homelessness. Of this amount, the Office of Disability Employment Policy at DOL made available $2.5 million to award up to four cooperative agreements designed to increase and improve employment opportunities for persons who are chronically homeless. HUD announced the availability of approximately $10 million for permanent housing grants from recaptured McKinney Act monies. The deadline for applications established by the July 18, 2003, notice was August 20, 2003.

As a result of the emergency situation caused by the power outages that affected much of Mid-Atlantic and the Mid-West beginning on August 14, 2003, HUD and DOL have decided to extend the application submission date for the Notice of Funding Availability/Solicitation for Grant Applications (SGA) to Monday, August 25, 2003. This notice is consistent with a similar notice extending the deadline for applications for this joint Solicitation for Grant Applications/ Notice of Funding Availability that will be appear in the Federal Register on Thursday, August 21, 2003.

Other than extension of the application due date, no other changes are made to the NOFA. All applications must continue to be submitted to the U.S. Department of Labor, Procurement Services Center, Room N-5416, 200 Constitution Avenue, NW., Washington, DC 20210, by the new application deadline—not later than 4:45 pm e.s.t., August 25, 2003.

Dated: August 20, 2003.
John Garrity,
Director, Office of Special Needs Assistance Programs, Office of Community Planning and Development.

[FR Doc. 03-21716 Filed 8-21-03; 10:57 am]

BILLING CODE 4210-29-P